DEPARTMENT OF THE INTERIOR

Bureau of Land Management

[AK-933-1430-ET; AA-82862]

Notice of Proposed Withdrawal and Opportunity for Public Meeting; Alaska

AGENCY: Bureau of Land Management, Interior.

ACTION: Notice.

SUMMARY: The U.S. Department of the Air Force has filed an application to withdraw approximately 1.25 acres of public lands within Air Navigation Site No. 169 at King Salmon. The proposed withdrawal is needed to protect the area for an environmental remediation project. The lands are presently withdrawn from all forms of appropriation by Departmental Order dated October 15, 1941, as amended, which withdrew public lands for Air Navigation Site No. 169 for use by the Federal Aviation Administration.

DATES: Comments and requests for a public meeting must be received by June 13, 2001.

ADDRESSES: Comments and meeting requests should be sent to the Alaska State Director, BLM Alaska State Office, 222 West 7th Avenue, No. 13, Anchorage, Alaska 99513-7599. You can access information about sending comments electronically at: www.anchorage.ak.blm.gov/wdlcom03.html.

FOR FURTHER INFORMATION CONTACT: Robbie J. Havens, BLM Alaska State Office, 907-271-5477.

SUPPLEMENTARY INFORMATION: On February 13, 2001, the U.S. Department of the Air Force filed an application to withdraw the following described public land from the public land laws, including location and entry under the United States mining laws, subject to valid existing rights:

Seward Meridian

T. 17 S., R. 45 W.,

Sec. 15, N½NE¼SW¼SW¼SE¼.

The area described contains approximately 1.25 acres.

For a period of 90 days from the date of publication of this notice, all persons who wish to submit comments, suggestions or objections in connection with the proposed withdrawal may present their views in writing to the Alaska State Director of the Bureau of Land Management at the address indicated above.

Notice is hereby given that an opportunity for a public meeting is afforded in connection with the proposed withdrawal. All interested persons who desire a public meeting for the purpose of being heard on the proposed withdrawal must submit a written request to the Alaska State Director within 90 days from the date of publication of this notice. Upon determination by the authorized officer that a public meeting will be held, a notice of the time and place will be published in the Federal Register at least 30 days before the scheduled date of the meeting.

The application will be processed in accordance with the regulations set forth in 43 CFR part 2300.

For a period of 2 years from the date of publication of this notice in the Federal Register, the land will be segregated as specified above unless the application is denied or canceled or the withdrawal is approved prior to that date.

Dated: March 2, 2001.
C. Michael Brown,
Acting Chief, Lands Branch, Division of Lands, Minerals, and Resources.

[FR Doc. 01-6455 Filed 3-14-01; 8:45 am]

BILLING CODE 4310-JA-P